Proclamation 9177 of September 30, 2014

National Arts and Humanities Month, 2014

By the President of the United States of America

A Proclamation

In this complicated world and in these challenging times, the arts and humanities enhance the character of our Nation. The flash of insight that comes from watching a thought-provoking documentary or discovering a compelling novel sparks moments of joy, awe, and sorrow. From symphonies that bring tragedy to life with long bow strokes to architecture that challenges the boundaries of the world around it, these works add texture to our lives and reveal something about ourselves. During National Arts and Humanities Month, we reflect on the many ways the arts and humanities have contributed to the fabric of our society.

Since our earliest days, America has flourished because of the creative spirit and vision of our people. Our Nation is built on the freedom of expression, and we rely on the arts and humanities to broaden our views and remind us of the truths that connect us. We must never take for granted the wonder we feel when standing before a timeless work of art or the world of memories that is unlocked with a simple movement or a single note. By capturing our greatest hopes and deepest fears, the arts and humanities play an important role in telling our country's story and broadening our understanding of the world.

Cultivating the talents of our young people and ensuring they have access to the arts are critical to our Nation's growth and prosperity. To meet the challenges ahead, we must harness the skills and ingenuity of our children and grandchildren and instill in them the same passion and persistence that has driven centuries of progress and innovation. The arts and humanities provide important opportunities for our young people to unleash their creativity and reach for new heights. That is why my Administration is committed to bolstering initiatives that ensure the next generation has the tools to foster their artistic expression and the opportunities to go as far as their imaginations can take them.

This month, we pay tribute to the tremendous power of the arts and humanities to bring us together and expose us to new ideas that make us think and feel. As we carry forward this proud tradition, let us celebrate the ways our Nation's rich heritage has strengthened our country and inspired our lives.

NOW, THEREFORE, I, BARACK OBAMA, President of the United States of America, by virtue of the authority vested in me by the Constitution and the laws of the United States, do hereby proclaim October 2014 as National Arts and Humanities Month. I call upon the people of the United States to join together in observing this month with appropriate ceremonies, activities, and programs to celebrate the arts and the humanities in America.

IN WITNESS WHEREOF, I have hereunto set my hand this thirtieth day of September, in the year of our Lord two thousand fourteen, and of the Independence of the United States of America the two hundred and thirty-ninth.

[FR Doc. 2014-23853

Filed 10-2-14; 11:15 am]

Billing code 3295-F4